DEPARTMENT OF ENERGY

Federal Energy Regulatory Commission

Combined Notice of Filings #2

Take notice that the Commission received the following electric rate filings:

Docket Numbers: ER17-753-001.

Applicants: PJM Interconnection, L.L.C.

Description: Tariff Amendment: Errata to Correct RTEP Approved by Board in Dec 2016 submitted in ER17-753-000 to be effective 4/6/2017.

Filed Date: 2/14/17.

Accession Number: 20170214-5073.

Comments Due: 5 p.m. ET 3/16/17.

Docket Numbers: ER17-969-000.

Applicants: Southwest Power Pool, Inc.

Description: § 205(d) Rate Filing: 3165 Otter Tail Power Company NITSA and NOA Notice of Cancellation to be effective 2/1/2017.

Filed Date: 2/14/17.

Accession Number: 20170214-5070.

Comments Due: 5 p.m. ET 3/7/17.

Docket Numbers: ER17-970-000.

Applicants: Northern States Power Company, a Minnesota corporation.

Description: § 205(d) Rate Filing: CAPX-Multi-Hawks Nest Const-647-0.0.0 to be effective 1/25/2017.

Filed Date: 2/14/17.

Accession Number: 20170214-5124.

Comments Due: 5 p.m. ET 3/7/17.

Take notice that the Commission received the following qualifying facility filings:

Docket Numbers: QF17-676-000.

Applicants: City of Charlotte, North Carolina.

Description: Form 556 of City of Charlotte.

Filed Date: 2/9/17.

Accession Number: 20170209-5306.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2017.
Nathaniel J. Davis, Sr.,
Deputy Secretary.

[FR Doc. 2017-03318 Filed 2-17-17; 8:45 am]

BILLING CODE 6717-01-P